ENVIRONMENTAL PROTECTION AGENCY

[EPA-HQ-OAR-2020-0633; FRL-12492-01-OMS]

Agency Information Collection Activities; Submission to the Office of Management and Budget for Review and Approval; Comment Request; NSPS for Polymeric Coating of Supporting Substrates Facilities (Renewal)

AGENCY: Environmental Protection Agency (EPA).

ACTION: Notice.

SUMMARY: The Environmental Protection Agency (EPA) has submitted an information collection request (ICR), NSPS for Polymeric Coating of Supporting Substrates Facilities (EPA ICR Number 1284.13, OMB Control Number 2060-0181) to the Office of Management and Budget (OMB) for review and approval in accordance with the Paperwork Reduction Act. This is a proposed extension of the ICR, which is currently approved through December 31, 2024. Public comments were previously requested via the Federal Register on May 18, 2023 during a 60-day comment period. This notice allows for an additional 30 days for public comments.

DATES: Comments may be submitted on or before January 13, 2025.

ADDRESSES: Submit your comments, referencing Docket ID Number EPA-HQ-OAR-2020-0633, to EPA online using https://www.regulations.gov/ (our preferred method), by email to a-and-r-docket@epa.gov, or by mail to: EPA Docket Center, Environmental Protection Agency, Mail Code 28221T, 1200 Pennsylvania Ave. NW, Washington, DC 20460

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through December 31, 2024. An agency may not conduct or sponsor and a person is not required to respond to a collection of information unless it displays a currently valid OMB control number.

Public comments were previously requested via the Federal Register on May 18, 2023, during a 60-day comment period. This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Polymeric Coating of Supporting Substrates Facilities (40 CFR part 60, subpart VVV) were proposed on April 30, 1987, and promulgated on September 11, 1989. These regulations apply to each existing and new coating operation and any on-site coating mix preparation equipment used to prepare coatings for the polymeric coating of supporting substrates. New facilities include those that commenced construction, modification, or reconstruction after the date of proposal. This information is being collected to assure compliance with 40 CFR part 60, subpart VVV.

Form Numbers: None.

Respondents/affected entities: Polymeric coating of supporting substrates facilities.

Respondent's obligation to respond: Mandatory (40 CFR part 60, subpart VVV).

Estimated number of respondents: 74 (total).

Frequency of response: Initially, quarterly, and semiannually.

Total estimated burden: 16,400 hours (per year). Burden is defined at 5 CFR 1320.3(b).

Total estimated cost: $3,330,000 (per year), includes $826,000 annualized capital or operation & maintenance costs.

Changes in the Estimates: There is There is no change in burden from the most-recently approved ICR as currently identified in the OMB Inventory of Approved Burdens. The regulations have not changed over the past three years and are not anticipated to change over the next three years.

Courtney Kerwin,
Director, Information Engagement Division.

[FR Doc. 2024-29347 Filed 12-12-24; 8:45 am]

BILLING CODE 6560-50-P